DEPARTMENT OF HEALTH AND HUMAN SERVICES

Substance Abuse and Mental Health Services Administration

Delegation of Authority

Notice is hereby given that I have delegated to the Administrator, Substance Abuse and Mental Health Services Administration (SAMHSA), with authority to redelegate, the authorities vested in the Secretary of Health and Human Services under section 3990 of the Public Health Service Act (42 U.S.C. 280g-3), as amended hereafter, insofar as these authorities pertain to the functions assigned to SAMHSA.

These authorities shall be exercised under the Department's Policy on regulations and the existing delegation of authority to approve and issue regulations.

In addition, I have affirmed and ratified any actions taken by the SAMHSA Administrator or by any other SAMHSA officials, which, in effect, involved the exercise of this authority prior to the effective date of this delegation.

This delegation is effective upon date of signature.

Dated: June 5, 2009.
Kathleen Sebelius,
Secretary.

[FR Doc. E9-14219 Filed 6-17-09; 8:45 am]

BILLING CODE 4160-01-M